DEPARTMENT OF THE INTERIOR

Geological Survey

[GX13EN05ESB0500]

Agency Information Collection Activities: Submitted for Office of Management and Budget (OMB) Review; Comment Request

AGENCY: U.S. Geological Survey (USGS), Interior.

ACTION: Notice of an extension of currently approved information Collection, 1028-0096.

SUMMARY: To comply with the Paperwork Reduction Act of 1995 (PRA), the U.S. Geological Survey (USGS) is inviting comments on an information collection request (ICR) that we have sent to the Office of Management and Budget (OMB) for review and approval. The ICR concerns the paperwork requirements for the Department of the Interior Regional Climate Science Centers. As required by the Paperwork Reduction Act (PRA) of 1995, and as part of our continuing efforts to reduce paperwork and respondent burden, we invite the general public and other Federal agencies to take this opportunity to comment on this ICR. This collection is scheduled to expire on April 30, 2013.

DATES: Submit written comments by May 29, 2013.

ADDRESSES: Please submit comments on this information collection directly to the Office of Management and Budget (OMB), Office of Information and Regulatory Affairs, Attention: Desk Officer for the Department of the Interior via email: (OIRA_SUBMISSION@omb.eop.gov); or by fax (202) 395-5806; and identify your submission with #1028-0096. Please also submit a copy of your comments to Information Collection Clearance Officer, U.S. Geological Survey, 807 National Center, Reston, VA 20192 (mail); dgovoni@usgs.gov (email); or (703) 648-7195 (fax). Please Reference Information Collection 1028-0096 in the subject line.

FOR FURTHER INFORMATION CONTACT: Nadine Hartke by mail at U.S. Geological Survey, MS 400 National Center, 12201 Sunrise Valley Drive, Reston, VA 20192, or by telephone at 703-648-4607. You may also find information about this ICR at www.reginfo.gov.

SUPPLEMENTARY INFORMATION:

Title: Department of the Interior Regional Climate Science Centers.

OMB Control Number: 1028-0096.

Type of Request: Notice of an extension of a currently approved information collection.

Respondent Obligation: Required to obtain a benefit.

Abstract: The National Climate Change and Wildlife Science Center (NCCWSC) has the responsibility to manage DOI Climate Science Centers (CSCs) that are co-located at cooperating organizations at non-USGS facilities. The NCCWSC works in close partnership with the climate change science and natural and cultural resource management communities to understand high priority science needs and to develop science information tools that can help resource managers develop strategies for responding to climate change. This program provides funding for researchers through cooperative agreements that involve climate change science as a major component. Eight DOI CSCs have been established. The DOI CSCs and host partnerships have been established on a 5-year renewable basis. The initial information collection activity was performed to identify the preferred locations/institutional partners for Climate Science Centers. This was a full and open competition announced on Grants.gov. Based on this information, CSC host institutions have been identified and have entered cooperative agreements with USGS. At present, information collection activities focus on annual performance and financial reports, required under the cooperative agreements. This information is used to conduct an annual performance evaluation of each CSC's progress in meeting the goals of the agreement.

Frequency of Collection: Once annually.

Estimated Number and Description of Respondents: We expect to receive approximately 40 responses (annual status reports) from a combination of state/local and tribal governments as well as from individuals representing the private sector.

Estimated Annual Responses: 40.

Estimated Annual burden hours: 800.

Estimated Reporting and Recordkeeping “Non-Hour Cost” Burden: There is no non-hour cost burden associated with this activity.

Public Disclosure Statement: The PRA (44 U.S.C. 3501, et seq.) provides that an agency may not conduct or sponsor and you are not required to respond to a collection of information unless it displays a currently valid OMB control number.

Comments: To comply with the public consultation process, on January 11, 2013, we published a Federal Register notice (78 FR 2422) announcing that we would submit this ICR to OMB for approval. The notice provided the required 60-day public comment period, which ended March 12, 2013. In response to our Federal Register Notice, we received two comments, which consisted of general invectives about the U.S. Government and did not pertain to this information collection. We again invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents. Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: April 16, 2013.
T. Douglas Beard, Jr.,
Chief, NCCWSC, U.S. Geological Survey.

[FR Doc. 2013-09995 Filed 4-26-13; 8:45 am]

BILLING CODE 4311-AM-P